NUCLEAR REGULATORY COMMISSION

Agency Information Collection Activities: Proposed Collection; Comment Request

AGENCY: Nuclear Regulatory Commission (NRC).

ACTION: Notice of pending NRC action to submit an information collection request to OMB and solicitation of public comment.

SUMMARY: The NRC is preparing a submittal to OMB for review of continued approval of information collections under the provisions of the Paperwork Reduction Act of 1995 (44 U.S.C. Chapter 35).

Information pertaining to the requirement to be submitted:

1. The title of the information collection: Policy Statement for the “Criteria for Guidance of States and NRC in Discontinuance of NRC Regulatory Authority and Assumption Thereof By States Through Agreement,” Maintenance of Existing Agreement State Programs, Request for Information through the Integrated Materials Performance Evaluation Program (IMPEP) Questionnaire, and Agreement State Participation in IMPEP.

2. Current OMB approval number: 3150-0183.

3. How often the collection is required: There are four activities that occur under this collection: information collection activities required by the IMPEP questionnaire in preparation for an IMPEP review conducted no less frequently than every four years; while the following activities are all collected on an annual basis—policy statement addressing requirements for new Agreement States; participation by Agreement States in the IMPEP reviews; and annual requirements for Agreement States to maintain their programs.

4. Who is required or asked to report: 33 Agreement States who have signed Section 274b Agreements with NRC.

5. The estimated number of annual respondents: 33.

6. The number of hours needed annually to complete the requirement or request: For States interested in becoming an Agreement State: Approximately 4,300 hours. For Agreement State participation in 11 IMPEP reviews (9 State, 1 NRC Region and 1 Follow-up Review): 396 hours (an average of 36 hours per review). For maintenance of existing Agreement State programs: 252,000 hours (an average of approximately 7,636 hours per State for 33 Agreement States). For Agreement State response to 9 IMPEP questionnaires annually: 477 hours (an average of 53 hours per program). The total number of hours expended annually is 257,173 hours.

7. Abstract: States wishing to become an Agreement State are requested to provide certain information to the NRC as specified by the Commission's Policy Statement, “Criteria for Guidance of States and NRC in Discontinuance of NRC Regulatory Authority and Assumption Thereof By States Through Agreement.” Agreement States need to ensure that the Radiation Control Program under the Agreement remains adequate and compatible with the requirements of Section 274 of the Atomic Energy Act (Act) and must maintain certain information. NRC conducts periodic evaluations through IMPEP to ensure that these programs are compatible with the NRC's, meet the applicable parts of the Act, and are adequate to protect public health and safety.

Submit, by April 12, 2004, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions about the information collection requirements may be directed to the NRC Clearance Officer, Brenda Jo. Shelton, U.S. Nuclear Regulatory Commission, T-5 F52, Washington, DC 20555-0001, by telephone at (301) 415-7233, or by Internet electronic mail to infocollects@nrc.gov.

Dated at Rockville, Maryland, this 4th day of February, 2004.
For the Nuclear Regulatory Commission.
Brenda Jo Shelton,
NRC Clearance Officer Office of the Chief Information Officer.

[FR Doc. 04-2935 Filed 2-10-04; 8:45 am]

BILLING CODE 7590-01-P